ENVIRONMENTAL PROTECTION AGENCY

[FRL-9968-39-Region 9]

Casmalia Resources Superfund Site; Notice of Proposed CERCLA Administrative De Minimis Settlement

AGENCY: Environmental Protection Agency (EPA).

ACTION: Notice; request for public comment.

SUMMARY: In accordance with the Comprehensive Environmental Response, Compensation, and Liability Act, as amended (CERCLA) and the Resource Conservation and Recovery Act (RCRA), the Environmental Protection Agency (EPA) is hereby providing notice of a proposed administrative de minimis settlement concerning the Casmalia Resources Superfund Site in Santa Barbara County, California (the Casmalia Resources Site). CERCLA provides EPA with the authority to enter into administrative de minimis settlements. This settlement is intended to resolve the liabilities of the 57 settling parties identified below for the Casmalia Resources Site. These parties have also elected to resolve their liability for response costs and potential natural resource damage claims by the United States Fish and Wildlife Service (USFWS) and the National Oceanic and Atmospheric Administration (NOAA). These 57 parties sent 6,517,494 lbs. of waste to the Casmalia Resources Site, which represents 0.00114 (0.114%) of the total Site waste of 5.6 billion pounds. This settlement requires these parties to pay $590,772 to EPA.

DATES: EPA will receive written comments relating to the settlement until November 1, 2017. EPA will consider all comments it receives during this period, and may modify or withdraw consent to the settlement if any comments disclose facts or considerations indicating that the settlement is inappropriate, improper, or inadequate.

Public Meeting: In accordance with section 7003(d) of RCRA, 42 U.S.C. 6973(d), commenters may request an opportunity for a public meeting in the affected area. The deadline for requesting a public meeting is October 16, 2017. Requests for a public meeting may be made by contacting Russell Mechem by email at Mechem.russell@epa.gov. If a public meeting is requested, information about the date and time of the meeting will be published in the local newspaper, The Santa Maria Times, and will be sent to persons on the EPA's Casmalia Resources Site mailing list. To be added to the mailing list, please contact: Alejandro Diaz at (415)972-3242 or by email at diaz.alejandro@epa.gov.

ADDRESSES: Written comments should be addressed to Casmalia Case Team, U.S. Environmental Protection Agency Region IX, 75 Hawthorne Street (mail code SFD-7-1), San Francisco, California 94105-3901, or may be sent by email to Mechem.russell@epa.gov.

FOR FURTHER INFORMATION CONTACT: A copy of the settlement document and additional information about the Casmalia Resources Site and the proposed settlement may be obtained on the EPA-maintained Casmalia Resources Site Web site at: http://www.epa.gov/region09/casmalia or by calling Russell Mechem at (415) 972-3192.

SUPPLEMENTARY INFORMATION: Section 122(g) of CERCLA gives EPA authority to enter into administrative de minimis settlements. Section 122(i) of CERCLA and section 7003 of RCRA require that EPA publish notice of a proposed administrative de minimis settlement. This settlement is intended to resolve the liabilities of the settling parties under sections 106 and 107 of CERCLA and section 7003 of RCRA for the Casmalia Resources Site.

The parties that have elected to settle their liability with EPA at this time are as follows: ABB Group, Inc.; Advanced Structures Corporation; Alameda County Fire Department; Alisal Guest Ranch and Golf Resort; ALSCO, Inc.; American Forest Products Co.; Angell and Giroux, Inc.; ASV Wines, Inc.; Cadet Uniform; Cambro Manufacturing; Coating Resources Corporation; Colfax Corporation; Conejo Recreation & Park District; County of Alameda; Custom Building Products, Inc.; Data Products Corporation; Denso Products and Services Americas, Inc. (on behalf of American Industrial Manufacturing Services); Electronic Precision Specialties, Inc.; Federal Cartridge Company on behalf of Omark Industries; Fuentes-Ford Enterprises; H-H Heat Treating, aka Bodycote Thermal Processing, Inc.; Hearst Corporation; Hendry Mechanical Works/Hendry Telephone Products; Holz Rubber Company, Inc.; Homer T. Hayward Lumber Co., successor-in-interest to County Lumber Company; Hubbell, Inc.; J Buchbinder Industrial; Jervis B. Webb Company, as former shareholder of Jervis B. Webb Company of California; KEC Company; Kelly Moore Paint Company, Inc.; Kem-Mil Company; Kirby Automotive; Leidos, Inc.; Liquid Carbonic Corp.; Liquid Waste Test Facility; McCann's Engineering & Mfg, Co.; Moldex-Metric, Inc.; Monterey Regional Waste Management District; Munroe & Sons Manufacturing; Nestle S.A.; Oscar E. Erickson, Inc.; PCL Construction Company; Plasticolor Molded Products; Prime Healthcare; Princeton Packaging, Inc.; Reynolds & Taylor; Richards Surgical Mfg. Co.; Roofing Wholesale Company; Sage Mitsubishi; Siemens Healthcare Diagnostics, Inc., settles on behalf of Syva Diagnostics Holding Company and entity Behring Diagnostics acquired through Dade-Behring; Specialty Extrusion Ltd.; Successor Agency to Culver City Redevelopment Agency; Tenet Healthcare; Terminal Data Corporation; Thomsen Equipment Company, Inc.; University Financial; Western Industrial Maintenance.

Dated: September 15, 2017.
Enrique Manzanilla,
Director, Superfund Division, U.S. EPA Region IX.

[FR Doc. 2017-21123 Filed 9-29-17; 8:45 am]

BILLING CODE 6560-50-P